DEPARTMENT OF COMMERCE

National Oceanic and Atmospheric Administration

RIN 0648-XG825

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Tuesday, March 19, 2019, from 1 p.m. to 5:30 p.m. and on Wednesday, March 20, 2019 from 9 a.m. to 12 p.m. See SUPPLEMENTARY INFORMATION for agenda details.

ADDRESSES: The meeting will take place at the Hyatt Place Inner Harbor, 511 South Central Avenue, Baltimore, MD 21201; telephone: (410) 558-1840.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is to review the most recent survey and fishery data and the currently implemented 2020 acceptable biological catch (ABC) for golden and blueline tilefish. The SSC will also review and provide feedback on the most recent Mid-Atlantic State of the Ecosystem report, other Ecosystem Approach to Fisheries Management (EAFM) related activities and the Council's Comprehensive Research Plan. The SSC will review changes to the stock assessment schedule and peer review process for Mid-Atlantic and New England species as recently approved by the Northeast Regional Coordinating Council (NRCC). The SSC will also review and discuss recent activities by the Northeast Trawl Advisory Panel (NTAP). In addition, the SSC may take up any other business as necessary.

A detailed agenda and background documents will be made available on the Council's website (www.mafmc.org) prior to the meeting.

Special Accommodations

The meeting is physically accessible to people with disabilities. Requests for sign language interpretation or other auxiliary aid should be directed to M. Jan Saunders, (302) 526-5251, at least 5 days prior to the meeting date.

Dated: February 15, 2019.
Tracey L. Thompson,
Acting Deputy Director, Office of Sustainable Fisheries, National Marine Fisheries Service.

[FR Doc. 2019-02961 Filed 2-20-19; 8:45 am]

BILLING CODE 3510-22-P